ENVIRONMENTAL PROTECTION AGENCY

[Docket ID No. OW-2004-0004; FRL-7649-6]

Notice of Availability: Tribal Drinking Water Operator Certification Program Draft Final Guidelines

AGENCY: Environmental Protection Agency.

ACTION: Notice.

SUMMARY: The U.S. Environmental Protection Agency (EPA) is announcing the availability of the Tribal Drinking Water Operator Certification Program Draft Final Guidelines (Draft Final Guidelines). The Safe Drinking Water Act (SDWA) Amendments of 1996 directed the EPA, in cooperation with the States, to develop guidelines specifying minimum standards for certification and recertification of operators of State community and nontransient noncommunity public water systems. The requirements pertaining to States do not apply to tribes; however, since having a certified operator is a key factor in public health protection, EPA has developed a voluntary Tribal Drinking Water Operator Certification Program. This program is intended to protect public health by providing operators of drinking water systems in Indian country with additional opportunities to become trained and certified, by developing baseline standards for non-State organizations certifying operators of systems in Indian country, and by establishing a consistent method of assessing, tracking, and addressing certification and training needs of those operators.

The draft guidelines were made available to the public in a Federal Register notice dated March 30, 2000 (65 FR 16917), and comments were sought. See the SUPPLEMENTARY INFORMATION section for a brief summary of those comments. Today, EPA is seeking any additional comments from tribes and other interested parties who will be affected by the Tribal Drinking Water Operator Certification Program. EPA will consider the comments received when finalizing the Program Guidelines.

DATES: Comments should be postmarked or received via email or courier by June 18, 2004.

ADDRESSES: Comments may be submitted electronically, by mail, or through hand delivery/courier. Send comments to: Water Docket, Environmental Protection Agency, Mail Code 4101T, 1200 Pennsylvania Ave., NW., Washington, DC, 20460, Attention Docket ID No. OW-2004-0004.

FOR FURTHER INFORMATION CONTACT: For copies of the Draft Final Guidelines, and for general information about the document, please contact the Safe Drinking Water Hotline at 800-426-4791. The Draft Final Guidelines are also available on the EPA Office of Ground Water and Drinking Water Web site at http://www.epa.gov/safewater/tribal.html. For technical inquiries, contact Jill Nogi, Environmental Protection Agency, Office of Ground Water and Drinking Water, Mail Code: 4606M, 1200 Pennsylvania Ave., NW., Washington, DC 20460; telephone: (202) 564-1721; email: nogi.jill@epa.gov.

SUPPLEMENTARY INFORMATION:

I. General Information

A. How Can I Get Copies Of This Document and Other Related Information?

1. Docket. EPA has established an official public docket for this action under Docket ID No. OW-2004-0004. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. If you would like to schedule an appointment for access to docket material, please call (202) 566-2426.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.A.1.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and to Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OW-2004-0004. The system is an “anonymous access” system, which means EPA will not know your identity, e-mail address, or other contact information unless you provide it in the body of your comment.

ii. E-mail. Comments may be sent by electronic mail (e-mail) to OW-Docket@epa.gov, Attention Docket ID No. OW-2004-0004. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the following mailing address in Section I.B.2. These electronic submissions will be accepted in WordPerfect or ASCII file format. Avoid the use of special characters and any form of encryption.

2. By Mail. Send an original and three copies of your comments to: Water Docket, Environmental Protection Agency, Mail Code 4101T, 1200 Pennsylvania Ave., NW., Washington, DC, 20460, Attention Docket ID No. OW-2004-0004.

3. By Hand Delivery or Courier. Deliver your comments to: Environmental Protection Agency, EPA Docket Center, (EPA/DC) EPA West, Room B102, 1301 Constitution Ave., NW., Washington, DC, Attention Docket ID No. OW-2004-0004. Such deliveries are only accepted during the Docket's normal hours of operation as identified in section I.A.1.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Summary of Comments on the March 30, 2000 Draft Guidelines

EPA responded to comments received on the March 30, 2000, Draft Guidelines in detail in the Tribal Drinking Water Operator Certification Program Draft Final Guidelines, dated March 2004, briefly summarized as follows:

1. Is the Tribal Operator Certification Program mandatory or voluntary? EPA responded in the Draft Final Guidelines that this program is voluntary unless a Tribe is receiving funds from the Drinking Water Infrastructure Grant (State Revolving Fund) Tribal Set-Aside (DWIG TSA). Other drinking water grants may also have water system operator certification conditions in order for Tribes to be eligible for financial assistance. EPA Regions will have the flexibility to issue such a grant condition for drinking water grants other than the DWIG TSA.

2. Would State certification of water system operators be acceptable under the Tribal Drinking Water Operator Certification Program? EPA responded that it will accept State certification if the State has an EPA approved program, and the level of certification is appropriate for the EPA classification of the water system.

3. Could an operator who is currently operating a system, but who may not meet the certification requirements of the Tribal Drinking Water Operator Certification Program, continue working under this program? EPA responded that an operator who is currently working could continue to operate the system under a grandparenting clause provision in the guidelines; however, there are certain qualifications and restrictions on grandparenting. (Refer to the Draft Final Guidelines for details.)

4. Would State classification of water systems be acceptable, or would the systems have to be classified under EPA criteria? EPA determined that it will classify water systems in Indian country.

5. Would operators of water systems with both distribution and treatment characteristics need two separate certifications? EPA responded that large system operators may be required to have certifications for both distribution and treatment, however, small system operators may be allowed to have one certification that includes both distribution and treatment.

Dated: April 13, 2004.
Benjamin H. Grumbles,
Acting Assistant Administrator, Office of Water.

[FR Doc. 04-8795 Filed 4-16-04; 8:45 am]

BILLING CODE 6560-50-P